DEPARTMENT OF THE INTERIOR

Fish and Wildlife Service

50 CFR Part 17

RIN 1018-AJ26

Endangered and Threatened Wildlife and Plants; Extension of Amended Special Regulations for the Preble's Meadow Jumping Mouse

AGENCY: Fish and Wildlife Service, Interior.

ACTION: Proposed rule; extension of comment period and notice of public hearing.

SUMMARY: We, the U.S. Fish and Wildlife Service (Service), are extending the comment period on a proposed rule that would permanently extend the amended special regulations governing take of the threatened Preble's meadow jumping mouse (Zapus hudsonius preblei). Comments previously submitted need not be resubmitted as they will be incorporated into the public record as part of this extended comment period, and will be fully considered in the final rule. We also are holding a public hearing to receive oral comments on this proposed rule.

DATES: Comments must be received on or before April 12, 2004, to receive consideration. (see “Public Hearings and Meetings” section for time and location of the public hearing).

ADDRESSES: Submit written comments to the Colorado Ecological Services Field Office, U.S. Fish and Wildlife Service, 755 Parfet Street, Suite 361, Lakewood, Colorado 80215, or by facsimile to 303-275-2371. You may hand deliver written comments to our Colorado Ecological Services Field Office at the address given above. The complete file for this rule is available for public inspection, by appointment, during normal business hours at the U.S. Fish and Wildlife Service's Colorado Ecological Services Field Office at the address given above.

FOR FURTHER INFORMATION CONTACT: In Colorado, contact Susan Linner, Field Supervisor, at the above address or telephone (303) 275-2370. In Wyoming, contact Brian Kelly, Field Supervisor, 4000 Airport Parkway, Cheyenne, Wyoming, at telephone (307) 772-2374.

SUPPLEMENTARY INFORMATION:

Background

On May 22, 2001, the Service adopted special regulations governing take of the threatened Preble's meadow jumping mouse (Zapus hudsonius preblei), which provide exemption from take provisions under section 9 of the Endangered Species Act for certain activities related to rodent control, ongoing agricultural activities, landscape maintenance, and existing uses of water. On October 1, 2002, the Service amended those regulations to provide exemptions for certain activities related to noxious weed control and ongoing ditch maintenance activities. On February 24, 2004, we published a proposed rule in the Federal Register (69 FR 8359) to permanently extend these special regulations, as amended, and solicited public comments. Please refer to the proposed rule for background information, a summary of previous Federal actions, and provisions of the special regulations. We are now extending the public comment period and holding a public hearing on this proposed rule.

Public Comments Solicited

We intend that any final action resulting from this proposal will be as accurate and as effective as possible. Therefore, we solicit comments from the public, other concerned governmental agencies, the scientific community, industry, or any other interested party concerning the proposed rule. Our practice is to make comments, including names and home addresses of respondents, available for public review during regular business hours. In some circumstances, we will withhold a respondent's identity from the rulemaking record, as allowable by law. If you wish us to withhold your name or address, you must state this request prominently at the beginning of your comments. However, we will not consider anonymous comments. We will make all submissions from organizations or businesses available for public inspection in their entirety (see ADDRESSES section).

Public Hearing and Meetings

On March 9, 2004, we received a request for a public hearing on the proposed extension of the amended special rule. In response to this request, we will hold a public hearing on Thursday, April 1, 2004, from 6 p.m. until 8 p.m. at the Platte County Public Library, 904 9th Street, Wheatland, Wyoming.

Anyone wishing to make an oral comment or statement for the record at the public hearing listed above is encouraged (but not required) to also provide a written copy of the statement and present it to us at the hearing. Oral and written statements receive equal consideration. In the event there is a large attendance, the time allotted for oral statements may be limited.

Author

The primary author of this notice is Mary Jennings, Wyoming Field Office, telephone 307-772-2374.

Authority: Authority for this action is the Endangered Species Act of 1973, as amended (16 U.S.C. 1531 et seq.).

Dated: March 17, 2004.
Mary G. Henry,
Acting Regional Director, Denver, Colorado.

[FR Doc. 04-6416 Filed 3-22-04; 8:45 am]

BILLING CODE 4310-55-P